DEPARTMENT OF COMMERCE

National Telecommunications and Information Administration

NTIA 2020 Spectrum Policy Symposium

AGENCY: National Telecommunications and Information Administration, U.S. Department of Commerce.

ACTION: Notice of public meeting.

SUMMARY: The National Telecommunications and Information Administration (NTIA), U.S. Department of Commerce, will host a virtual, online symposium on September 22, 2020, focusing on national spectrum policy development and the evolution of new techniques and technologies for federal spectrum management including spectrum sharing.

DATES: The symposium will be held on September 22, 2020, from 8:30 a.m. to 12:00 p.m., Eastern Daylight Time (EDT).

ADDRESSES: The symposium will be held online and will be accessible from NTIA's public website, https://www.ntia.gov/other-publication/2020/2020-spectrum-policy-symposium-webcast.

FOR FURTHER INFORMATION CONTACT: John Alden, Telecommunications Specialist, Office of Spectrum Management, NTIA, at (202) 482-8046 or spectrumsymposium@ntia.gov. Please direct media inquiries to NTIA's Office of Public Affairs, (202) 482-7002; email: press@ntia.gov.

SUPPLEMENTARY INFORMATION: NTIA serves as the president's principal advisor on telecommunications policies pertaining to the nation's economic and technological advancement and establishes policies concerning use of the radio spectrum by federal agencies. See 47 U.S.C. 902(b)(2)(D). NTIA is hosting a symposium that will focus on developing, implementing and maintaining sustainable, national spectrum policies and spectrum management techniques that will enable the United States to strengthen its global leadership role in the introduction of wireless telecommunications technology, services, and innovation, while also supporting the expansion of existing technologies and the nation's homeland security, national defense, and other critical government missions.

Speakers are expected to include representatives of the Department of Commerce, the Executive Office of the President, the U.S. Congress, Executive Branch agencies, and private sector and other non-government organizations. Prior to the event, NTIA will post a detailed agenda on its website at: https://www.ntia.gov/other-publication/2020/2020-spectrum-policy-symposium-webcast.

The symposium is open to the public and members of the press. NTIA asks registrants to provide their first and last names, email addresses, and their organization (optional) for both registration purposes and to receive updates on the symposium. Registration information, the agenda, and meeting updates, if any, and other relevant documents will be available on NTIA's website at: https://www.ntia.gov/other-publication/2020/2020-spectrum-policy-symposium-webcast.

Individuals requiring accommodations, such as sign language interpretation or other ancillary aids, should notify Mr. Alden at the contact information listed above at least ten (10) business days before the event.

Dated: August 20, 2020.
Kathy D. Smith,
Chief Counsel, National Telecommunications and Information Administration.

[FR Doc. 2020-18619 Filed 8-28-20; 8:45 am]

BILLING CODE 3510-60-P